ENVIRONMENTAL PROTECTION AGENCY

[EPA-R03-OAR-2023-0302; FRL-11045-01-R3]

Adequacy Status of Motor Vehicle Emissions Budgets for the Baltimore 2015 8-Hour Ozone Moderate Nonattainment Area

AGENCY: Environmental Protection Agency (EPA).

ACTION: Notice of adequacy.

SUMMARY: In this notice, the Environmental Protection Agency (EPA) is notifying the public that it has found that the 2023 motor vehicle emissions budgets (MVEBs) for volatile organic compounds (VOCs) and nitrogen oxides (NOX), submitted by the Maryland Department of the Environment (MDE) on March 7, 2023, for the 2015 8-hour ozone national ambient air quality standard (NAAQS), are adequate for transportation conformity purposes for the Baltimore 2015 8-hour ozone moderate nonattainment area. As a result of EPA's finding, the State of Maryland must use the MVEBs from the March 7, 2023, attainment demonstration for future conformity determinations for the 2015 8-hour ozone standard.

DATES: The motor vehicle budgets are effective August 18, 2023.

FOR FURTHER INFORMATION CONTACT: Gregory Becoat, Planning & Implementation Branch (3AD30), Air & Radiation Division, U.S. Environmental Protection Agency, Region III, Four Penn Center, 1600 John F. Kennedy Boulevard, Philadelphia, Pennsylvania 19103. The telephone number is (215) 814-2036. Mr. Becoat can also be reached via electronic mail at becoat.gregory@epa.gov.

ADDRESSES: Publicly available docket materials, identified by EPA-R03-OAR-2023-0302, are available either electronically through www.regulations.gov or in hard copy at the EPA Docket Center, WJC West Building, Room 3334, 1301 Constitution Ave. NW, Washington, DC. The Docket Center's hours of operations are 8:30 a.m. to 4:30 p.m., Monday through Friday (except Federal Holidays). For further information on the EPA Docket Center services and the current status, see www.epa.gov/dockets. You may access this Federal Register document electronically from www.federalregister.gov/documents/current. This finding will also be available at the EPA's conformity website: www.epa.gov/state-and-local-transportation/conformity-adequacy-review-region-3.

SUPPLEMENTARY INFORMATION: This notice is an announcement of a finding that EPA has already made. EPA Region 3 sent a letter to MDE on June 1, 2023, stating that the 2023 MVEBs are adequate for transportation conformity purposes. The transportation conformity rule requires that EPA conduct a public process and make an affirmative decision on the adequacy of these budgets before they can be used by metropolitan planning organizations (MPO) in transportation conformity determinations.

As a result of this finding, upon the effective date of this notice of adequacy, the MPO must use the MVEBs associated with the attainment demonstration for future transportation conformity determinations. EPA announced availability of the attainment demonstration and related MVEBs on the EPA's transportation conformity website on April 3, 2023, requesting comments by May 3, 2023. EPA received no comments in response to the adequacy review posting. The MVEBs are provided in Table 1 in this document.

Table 1—2023 Motor Vehicle Emission Budgets for the Baltimore Area Attainment Demonstration
Pollutant | Mobile source emission budget (tons per day)
VOC | 17.47
NOX | 35.26

Transportation conformity is required by Clean Air Act section 176(c), 42 U.S.C. 7506(c). EPA's conformity rule requires that long-range transportation plans, transportation improvement programs, and transportation projects conform to a state's air quality SIP and establishes the criteria and procedures for determining whether or not they conform. Conformity to a SIP means that transportation activities will not produce new air quality violations, worsen existing violations, or delay timely attainment of the NAAQS. See id. at section 7506(c)(1)(B).

The criteria EPA uses to determine whether a SIP's MVEBs are adequate for conformity purposes are outlined in 40 CFR 93.118(e)(4). EPA has described the process for determining the adequacy of submitted SIP budgets in 40 CFR 93.118(f). Under 40 CFR 93.104(e), within 2 years of the effective date of this notice, the MPO and the U.S. Department of Transportation will need to demonstrate conformity to the MVEBs. To do so, the on-road motor vehicle emissions from implementation of the long-range transportation plan should be projected consistently with the MVEBs. Please note that an adequacy review is separate from EPA's completeness review, and it also should not be used to prejudge EPA's ultimate approval of the SIP. Even if EPA finds the MVEBs adequate, the Agency may later determine that the SIP itself is not approvable.

Authority: 42 U.S.C. 7401-7671q.

Adam Ortiz,
Regional Administrator, Region III.

[FR Doc. 2023-16587 Filed 8-2-23; 8:45 am]

BILLING CODE 6560-50-P